DEPARTMENT OF COMMERCE

National Oceanic and Atmospheric Administration

[RTID 0648-XC996]

North Pacific Fishery Management Council; Public Meeting

AGENCY: National Marine Fisheries Service (NMFS), National Oceanic and Atmospheric Administration (NOAA), Commerce.

ACTION: Notice of web conference.

SUMMARY: The North Pacific Fishery Management Council's (Council) Bering Sea Fishery Ecosystem Plan Local Knowledge, Traditional Knowledge, and Subsistence Taskforce (LKTKS) meeting will be held on June 22, 2023.

DATES: The meeting will be held on Thursday, June 22, 2023, from 8:30 a.m. to 5 p.m., Alaska Time.

ADDRESSES: The meeting will be a web conference. Join online through the link at https://meetings.npfmc.org/Meeting/Details/2995.

Council address: North Pacific Fishery Management Council, 1007 W 3rd Ave., Anchorage, AK 99501-2252; telephone: (907) 271-2809. Instructions for attending the meeting are given under SUPPLEMENTARY INFORMATION.

FOR FURTHER INFORMATION CONTACT: Kate Haapala, Council staff; phone: (907) 271-2809 and email: kate.haapala@noaa.gov. For technical support, please contact our administrative staff; email: npfmc.admin@noaa.gov.

SUPPLEMENTARY INFORMATION:

Agenda

Thursday, June 22, 2023

The LKTKS Taskforce agenda will include: (a) introductions, welcome, and review agenda; (b) review input from April 2023 Council meeting; (c) review and discuss public comment period; (d) discussion on capacity and resources for onramp implementation; (e) public comment; (f) reflections and final recommendations; and (g) other business. The agenda is subject to change, and the latest version will be posted at https://meetings.npfmc.org/Meeting/Details/2995 prior to the meeting, along with meeting materials.

Connection Information

You can attend the meeting online using a computer, tablet, or smart phone; or by phone only. Connection information will be posted online at: https://meetings.npfmc.org/Meeting/Details/2995.

Public Comment

Public comment letters will be accepted and should be submitted electronically to https://meetings.npfmc.org/Meeting/Details/2995. The written comment period will open Friday, June 2, 2023 at 8 a.m. and will be closed on Wednesday, June 21, 2023 at 12 p.m. Alaska Time. An opportunity for oral public testimony will also be provided during the meeting.

Authority: 16 U.S.C. 1801 et seq.

Dated: May 8, 2023.
Rey Israel Marquez,
Acting Deputy Director, Office of Sustainable Fisheries, National Marine Fisheries Service.

[FR Doc. 2023-10082 Filed 5-10-23; 8:45 am]

BILLING CODE 3510-22-P